DEPARTMENT OF THE INTERIOR

National Park Service

[N6485; NPS-WASO-NAGPRA-NPS0040993; PPWOCRADN0-PCU00RP14.R50000]

Notice of Intended Repatriation: California State University, Stanislaus, Turlock, CA, and East Bay Municipal Utility District, Valley Springs, CA

AGENCY: National Park Service, Interior.

ACTION: Notice.

SUMMARY: In accordance with the Native American Graves Protection and Repatriation Act (NAGPRA), the California State University, Stanislaus and East Bay Municipal Utility District (EBMUD) intend to repatriate certain cultural items that meet the definition of objects of cultural patrimony and that have a cultural affiliation with the Indian Tribes or Native Hawaiian organizations in this notice.

DATES: Repatriation of the cultural items in this notice may occur on or after October 10, 2025.

ADDRESSES: Send additional, written requests for repatriation of the cultural items in this notice to Jake Malsbury, NAGPRA/CalNAGPRA Repatriation Coordinator, Office of the President, California State University, Stanislaus, One University Circle, Turlock, CA 95382, email jmalsbury@csustan.edu, and Charles Beckman, Manager of Watershed and Recreation, East Bay Municipal Utility District, 15083 Camanche Parkway South, Valley Springs, CA 95252, email charles.beckman@ebmud.com.

SUPPLEMENTARY INFORMATION: This notice is published as part of the National Park Service's administrative responsibilities under NAGPRA. The determinations in this notice are the sole responsibility of the California State University, Stanislaus and EBMUD, and additional information on the determinations in this notice, including the results of consultation, can be found in the summary or related records. The National Park Service is not responsible for the determinations in this notice.

Abstract of Information Available

A total of 204 cultural items have been requested for repatriation. The objects of cultural patrimony were removed from a site in Calaveras County, CA. The archaeologist, Lewis K. Napton from the Institute of Archaeological Research at the California State University, Stanislaus, removed the items in 1993 from the site CA-CAL-228 (also known as Valley View Site). At the time of removal, the land was owned by the East Bay Municipal Utility District. The objects of cultural patrimony include lithic flakes, shatters, a scraper, quartz minerals, and soil samples.

Determinations

The California State University, Stanislaus and EBMUD have determined that:

• The 204 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the California Valley Miwok Tribe, California and the Ione Band of Miwok Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 10, 2025. If competing requests for repatriation are received, the California State University, Stanislaus and EBMUD must determine the most appropriate requestor prior to repatriation. Requests for joint repatriation of the cultural items are considered a single request and not competing requests. The California State University, Stanislaus and EBMUD is responsible for sending a copy of this notice to the Indian Tribes and Native Hawaiian organizations identified in this notice and to any other consulting parties.

Authority: Native American Graves Protection and Repatriation Act, 25 U.S.C. 3004 and the implementing regulations, 43 CFR 10.9.

Dated: August 21, 2025
Melanie O'Brien,
Manager, National NAGPRA Program.

[FR Doc. 2025-17369 Filed 9-9-25; 8:45 am]

BILLING CODE 4312-52-P